DEPARTMENT OF ENERGY

10 CFR Part 430

[EERE-2021-BT-TP-0023]

RIN 1904-AF18

Energy Conservation Program: Test Procedures for Cooking Products; Extension of Comment Period

AGENCY: Office of Energy Efficiency and Renewable Energy, Department of Energy.

ACTION: Notice of proposed rulemaking and notification of data availability; extension of public comment period.

SUMMARY: The U.S. Department of Energy (“DOE”) is extending the public comment period for the notice of proposed rulemaking (“NOPR”) that DOE published on November 4, 2021, regarding a proposal for a new test procedure for conventional cooking tops, a category of cooking products, that would replace the procedure that DOE withdrew on August 18, 2020. DOE is also extending the public comment period for a notification of data availability (“NODA”) that DOE published on December 16, 2021, regarding the results of DOE's recently completed test program assessing the repeatability and reproducibility of the proposed test procedure.

DATES: The comment period for the NOPR which published on November 4, 2021 (86 FR 60974) and the NODA which published on December 16, 2021 (86 FR 71406), is extended by 30 days. DOE will accept comments, data, and information regarding this NOPR and the test results no later than February 17, 2022.

ADDRESSES: Interested persons are encouraged to submit comments using the Federal eRulemaking Portal at www.regulations.gov. Follow the instructions for submitting comments. Alternatively, interested persons may submit comments, identified by docket number EERE-2021-BT-TP-0023, by any of the following methods:

1. Federal eRulemaking Portal: www.regulations.gov. Follow the instructions for submitting comments.

2. Email: Cooking Products2021@ee.doe.gov. Include the docket number EERE-2021-BT-TP-0023 in the subject line of the message.

No telefacsimiles (“faxes”) will be accepted. For detailed instructions on submitting comments and additional information on this process, see section II of this document.

Although DOE has routinely accepted public comment submissions through a variety of mechanisms, including postal mail and hand delivery/courier, the Department has found it necessary to make temporary modifications to the comment submission process in light of the ongoing coronavirus (“COVID-19”) pandemic. DOE is currently accepting only electronic submissions at this time. If a commenter finds that this change poses an undue hardship, please contact Appliance Standards Program staff at (202) 586-1445 to discuss the need for alternative arrangements. Once the COVID-19 pandemic health emergency is resolved, DOE anticipates resuming all of its regular options for public comment submission, including postal mail and hand delivery/courier.

Docket: The docket for this activity, which includes Federal Register notices, public meeting attendee lists and transcripts, comments, and other supporting documents/materials, is available for review at www.regulations.gov. All documents in the docket are listed in the www.regulations.gov index. However, some documents listed in the index, such as those containing information that is exempt from public disclosure, may not be publicly available.

The docket web page can be found at www.regulations.gov/docket/EERE-2021-BT-TP-0023. The docket web page contains instructions on how to access all documents, including public comments in the docket. See section II of this document for information on how to submit comments through www.regulations.gov.

FOR FURTHER INFORMATION CONTACT:

Dr. Stephanie Johnson, U.S. Department of Energy, Office of Energy Efficiency and Renewable Energy, Building Technologies Office, EE-5B, 1000 Independence Avenue SW, Washington, DC 20585-0121. Telephone: (202) 287-1943. Email: ApplianceStandardsQuestions@ee.doe.gov.

Ms. Celia Sher, U.S. Department of Energy, Office of the General Counsel, GC-33, 1000 Independence Avenue SW, Washington, DC 20585-0121. Telephone: (202) 287-6122. Email: Celia.Sher@hq.doe.gov.

For further information on how to submit a comment or review other public comments and the docket contact the Appliance and Equipment Standards Program staff at (202) 287-1445 or by email: ApplianceStandardsQuestions@ee.doe.gov.

SUPPLEMENTARY INFORMATION:

Table of Contents

I. Background

II. Extension of Comment Period

I. Background

On August 18, 2020, DOE published a final rule (“August 2020 Final Rule”) withdrawing the then-current test procedure for conventional cooking tops. 85 FR 50757. DOE initiated the rulemaking for the August 2020 Final Rule in response to a petition for rulemaking submitted by the Association of Home Appliance Manufacturers (“AHAM”), in which AHAM asserted that the then-current test procedure for gas cooking tops was not representative, and, for both gas and electric cooking tops, had such a high level of variation that it did not produce accurate results for certification and enforcement purposes and did not assist consumers in making purchasing decisions based on energy efficiency (“AHAM petition”). 85 FR 50757, 50760; see also 80 FR 17944 (Apr. 25, 2018).

In January 2020, DOE initiated a round robin test program to further investigate the water-heating approach used in the withdrawn test procedure and the issues raised in the AHAM petition. Testing was conducted according to the cooking top test procedure, as published in a final rule on December 16, 2016, that was withdrawn in the August 2020 Final Rule.

DOE published a NOPR on November 4, 2021 (“November 2021 NOPR”) in which it presented results from the initial round robin test procedure and proposed to re-establish a test procedure for conventional cooking tops. 86 FR 60974. The proposed test procedure would adopt the latest version of the relevant industry standard with modifications to adapt the test method to gas cooking tops, offer an optional method for burden reduction, normalize the energy use of each test cycle, include measurement of standby mode and off mode energy use, update certain test conditions, and provide certain clarifying language. Id.

In addition, following the August 2020 Final Rule, DOE initiated a second round robin test program in May 2021 in response to changes to electric cooking tops on the market and to evaluate potential variability in testing gas cooking tops. This second round robin test program followed the test procedure as proposed in the November 2021 NOPR. Because this second round robin testing program was ongoing at the time of the November 2021 NOPR, DOE published a NODA on December 16, 2021 (“December 2021 NODA”), presenting the results of the second round robin test program, and extended the public comment period for the November 2021 NOPR to receive comment, data, and information regarding both the proposals in the November 2021 NOPR and the results presented in the December 2021 NODA. 86 FR 71406.

II. Extension of Comment Period

Comments on the November 2021 NOPR were originally due on January 3, 2022. In light of the results presented in the December 2021 NODA, DOE determined that it was appropriate to extend the comment period on the November 2021 NOPR until January 18, 2022, to allow additional time for interested parties to prepare and submit comments on the November 2021 NOPR and the December 2021 NODA. 86 FR 71406. On December 22, 2021, DOE received a comment from AHAM requesting that DOE extend the comment period for the November 2021 NOPR and the December 2021 NODA until March 31, 2022.¹

¹ DOE has posted this comment to the docket at www.regulations.gov/comment/EERE-2021-BT-TP-0023-0007.

AHAM stated that it was in the process of conducting its own testing at two third-party laboratories in order to assess possible cooking top test modifications, and that it expected to complete this testing, including analysis of data, by March 11, 2022. Furthermore, AHAM expected that analysis of the results of the testing would be completed by the AHAM cooking top test procedure development task force (“AHAM Task Force”) ² and written comments prepared for submittal to DOE by March 31, 2022. (AHAM, No. 7 at p. 2) ³ In addition, AHAM asserted that it needed additional time to comment on the proposals in the November 2021 NOPR, in light of the data presented in the December 2021 NODA, to ensure a defensible test procedure. Id.

² The AHAM Task Force comprises AHAM representatives, member manufacturers, efficiency advocates, DOE, and DOE contractors. DOE participation in the AHAM Task Force began in February 2021.

³ The parenthetical reference provides a reference for information located in the docket of DOE's rulemaking to develop test procedures for cooking products. (Docket No. EERE-2021-BT-TP-0023, which is maintained at www.regulations.gov/#!docketDetail;D=EERE-2021-BT-TP-0023). The references are arranged as follows: (commenter name, comment docket ID number, page of that document).

In requesting the extension of the comment period until March 31, 2022, AHAM also referenced vacation schedules of its members at the end of the year and the open comment periods for the test procedures for clothes washers and consumer refrigerators, products manufactured by certain of AHAM's members that also manufacture conventional cooking tops. (AHAM, No. 7 at p. 2)

DOE notes that it has engaged with the AHAM Task Force since February 2021, and in this context has provided to all participating members of the task force results of DOE's testing, on an ongoing basis to help inform the development of AHAM's cooking top test procedures. In doing so, DOE has provided significant input and recommendations consistent with the proposals in the November 2021 NOPR to aid in the alignment of AHAM's test procedures under development and a potential future DOE cooking top test procedure. Throughout the course of numerous AHAM Task Force meetings, members have provided feedback on the methodology.

In consideration of its significant engagement with the AHAM Task Force, including ongoing presentation of DOE's testing results to the task force members, DOE has reviewed AHAM's request for a further extension of the comment period for the November 2021 NOPR and December 2021 NODA, and considered the benefit to stakeholders in providing additional time to review the NOPR and NODA and gather information/data that DOE is seeking. Accordingly, DOE has determined that such an extension of the comment period is appropriate and is hereby extending the comment period for the November 2021 NOPR and December 2021 NODA, and will accept comments, data, and information on and before February 17, 2022. DOE specifically encourages AHAM to submit data and results of its testing program so that these may be made available to interested parties in the docket for this rulemaking.

Submitting comments via www.regulations.gov. The www.regulations.gov web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. Persons viewing comments will see only first and last names, organization names, correspondence containing comments, and any documents submitted with the comments.

Do not submit to www.regulations.gov information for which disclosure is restricted by statute, such as trade secrets and commercial or financial information (hereinafter referred to as Confidential Business Information (“CBI”)). Comments submitted through www.regulations.gov cannot be claimed as CBI. Comments received through the website will waive any CBI claims for the information submitted. For information on submitting CBI, see the Confidential Business Information section.

DOE processes submissions made through www.regulations.gov before posting. Normally, comments will be posted within a few days of being submitted. However, if large volumes of comments are being processed simultaneously, your comment may not be viewable for up to several weeks. Please keep the comment tracking number that www.regulations.gov provides after you have successfully uploaded your comment.

Submitting comments via email. Comments and documents submitted via email also will be posted to www.regulations.gov. If you do not want your personal contact information to be publicly viewable, do not include it in your comment or any accompanying documents. Instead, provide your contact information on a cover letter. Include your first and last names, email address, telephone number, and optional mailing address. The cover letter will not be publicly viewable as long as it does not include any comments.

Include contact information each time you submit comments, data, documents, and other information to DOE. No faxes will be accepted.

Comments, data, and other information submitted to DOE electronically should be provided in PDF (preferred), Microsoft Word or Excel, WordPerfect, or text (ASCII) file format. Provide documents that are not secured, written in English and free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. Pursuant to 10 CFR 1004.11, any person submitting information that he or she believes to be confidential and exempt by law from public disclosure should submit via email two well-marked copies: One copy of the document marked confidential including all the information believed to be confidential, and one copy of the document marked non-confidential with the information believed to be confidential deleted. DOE will make its own determination about the confidential status of the information and treat it according to its determination.

It is DOE's policy that all comments may be included in the public docket, without change and as received, including any personal information provided in the comments (except information deemed to be exempt from public disclosure).

Signing Authority

This document of the Department of Energy was signed on January 9, 2022, by Kelly J. Speakes-Backman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 11, 2022.
Treena V. Garrett,
Federal Register Liaison Officer, U.S. Department of Energy.

[FR Doc. 2022-00725 Filed 1-14-22; 8:45 am]

BILLING CODE 6450-01-P